NUCLEAR REGULATORY COMMISSION

[NRC-2010-0278]

NUREG-1946, “Inservice Testing of Pumps and Valves, and Inservice Examination and Testing of Dynamic Restraints (Snubbers) at Nuclear Power Plants, Draft Report for Comment”

AGENCY: Nuclear Regulatory Commission.

ACTION: Announcement of issuance for public comment, availability.

SUMMARY: The Nuclear Regulatory Commission has issued for public comment a document entitled: NUREG-1946, “Inservice Testing of Pumps and Valves, and Inservice Examination and Testing of Dynamic Restraints (Snubbers) at Nuclear Power Plants, Draft Report for Comment.”

DATES: Please submit comments by January 20, 2011. Comments received after this date will be considered if it is practical to do so, but the NRC staff is able to ensure consideration only for comments received on or before this date.

ADDRESSES: You may submit comments by any one of the following methods. Please include Docket ID NRC-2010-0278 in the subject line of your comments. Comments submitted in writing or in electronic form will be posted on the NRC Web site and on the Federal rulemaking Web site, www.Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0278. Address questions about NRC dockets to Carol Gallagher 301-492-3668; e-mail Carol.Gallagher@nrc.gov.

Mail comments to: Cindy Bladey, Chief, Rules, Announcements, and Directives Branch (RADB), Division of Administrative Services, Office of Administration, Mail Stop: TWB-05-B01M, U.S. Nuclear Regulatory Commission, Washington, DC 20555-0001, or by fax to RADB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The NUREG-1946, “Inservice Testing of Pumps and Valves, and Inservice Examination and Testing of Dynamic Restraints (Snubbers) at Nuclear Power Plants, Draft Report for Comment” is available electronically under ADAMS Accession Number ML102100236.

Federal Rulemaking Web site: Public comments and supporting materials related to this notice can be found at http://www.regulations.gov by searching on Docket ID: NRC-2010-0278.

FOR FURTHER INFORMATION CONTACT: Gurjendra S. Bedi, Division of Component Integrity, Office of Nuclear Reactor Regulation, U.S. Nuclear Regulatory Commission, Washington, DC 20555-0001. Telephone: 301-415-1393, e-mail: Gurjendra.Bedi@nrc.gov.

SUPPLEMENTARY INFORMATION: NUREG-1946, “Inservice Testing of Pumps and Valves, and Inservice Examination and Testing of Dynamic Restraints (Snubbers) at Nuclear Power Plants, Draft Report for Comment” provides updated information on applicable regulations for testing of pumps and valves. The information in NUREG-1482, “Guidelines for Inservice Testing at Nuclear Plants,” Revision 0, issued April 1995, and Revision 1, issued January 2005, has described these topics in the past. This NUREG report replaces Revision 0 and Revision 1 of NUREG-1482, and is applicable, unless stated otherwise, to all editions and addenda of the American Society of Mechanical Engineers Code of Operation and Maintenance of Nuclear Power Plants (OM Code), which Title 10 of the Code of Federal Regulations (10 CFR) 50.55a(b) incorporates by reference. NUREG-1946 also includes information related to inservice examination and testing of dynamic restraints (snubbers). In addition, the NUREG discusses other inservice test program topics such as the NRC process for review of the OM Code, conditions on the use of the OM Code, and interpretations of the OM Code.

Dated at Rockville, Maryland, August 2, 2010.
For the Nuclear Regulatory Commission.
Anthony C. McMurtray,
Chief, Component Performance and Testing Branch, Division of Component Integrity, Office of Nuclear Reactor Regulation.

[FR Doc. 2010-19945 Filed 8-11-10; 8:45 am]

BILLING CODE 7590-01-P